DEPARTMENT OF VETERANS AFFAIRS

[OMB Control No. 2900-New (0896a)]

Agency Information Collection (VA Subcontracting Report) Activities Under OMB Review

AGENCY: Office of Small and Disadvantaged Business Utilization, Department of Veterans Affairs.

ACTION: Notice.

SUMMARY: In compliance with the Paperwork Reduction Act (PRA) of 1995 (44 U.S.C. 3501-3521), this notice announces that the Office of Small and Disadvantaged Business Utilization, Department of Veterans Affairs, has submitted the collection of information as abstracted below to the Office of Management and Budget (OMB) for review and comment. The PRA submission describes the nature of the information collection and its expected cost and burden; it includes the actual data collection instrument.

DATES: Comments must be submitted on or before September 4, 2009.

ADDRESSES: Submit written comments on the collection of information through http://www.Regulations.gov; or to VA's OMB Desk Officer, Office of Information and Regulatory Affairs, New Executive Office Building, Room 10235, Washington, DC 20503 (202) 395-7316. Please refer to “OMB Control 2900-New (0896a)” in any correspondence.

FOR FURTHER INFORMATION CONTACT: Denise McLamb, Enterprise Records Service (005R1B), Department of Veterans Affairs, 810 Vermont Avenue, NW., Washington, DC 20420, (202) 461-7485, FAX (202) 273-0443 or e-mail: denise.mclamb@.va.gov. Please refer to “OMB Control No. 2900-New (0896a).

SUPPLEMENTARY INFORMATION: Title: VA Subcontracting Report, VA Form 0896a.

OMB Control Number: 2900-New (0896a).

Type of Review: New collection.

Abstract: In accordance with Public Law 109-461 Section 8127(a)(4), “The Secretary shall establish a review mechanism to ensure that, in the case of a subcontract of a Department contract that is counted for purposes of meeting a goal established pursuant to this section, the subcontract was actually awarded to a business concern that may be counted for purposes of meeting that goal.” VA Form 0896a will be used to collect information from subcontractors to compare information obtained from subcontracting plans submitted by prime contractors in order to determine the accuracy of the data reported by prime contractors.

An agency may not conduct or sponsor, and a person is not required to respond to a collection of information unless it displays a currently valid OMB control number. The Federal Register Notice with a 60-day comment period soliciting comments on this collection of information was published on May 27, 2009, at page 25302.

Affected Public: Business or other for-profit.

Estimated Annual Burden: 646 hours.

Estimated Average Burden Per Respondent: 2 Hours.

Frequency of Response: One time.

Estimated Number of Respondents: 323.

Dated: July 30, 2009.
By direction of the Secretary:
Denise McLamb,
Program Analyst, Enterprise Records Service.

[FR Doc. E9-18628 Filed 8-4-09; 8:45 am]

BILLING CODE 8320-01-P